DEPARTMENT OF THE TREASURY

Internal Revenue Service

Privacy Act of 1974: Computer Matching Program

AGENCY: Internal Revenue Service, Treasury.

ACTION: Notice of Matching Program.

SUMMARY: Pursuant to section 552a(e)(12) of the Privacy Act of 1974, as amended, and the Office of Management and Budget (OMB) Guidelines on the Conduct of Matching Programs, notice is hereby given of the conduct of the Internal Revenue Service Disclosure of Information to Federal, State and Local Agencies (DIFSLA) Computer Matching Program.

DATES: Effective Date: This notice will be effective September 15, 2008.

ADDRESSES: Inquiries may be mailed to the Director, Governmental Liaison and Disclosure, Internal Revenue Service, 230 S. Dearborn Street, Chicago, IL 60604-1505.

FOR FURTHER INFORMATION CONTACT: Samuel M. Farrow, Project Manager, Governmental Liaison and Disclosure, Internal Revenue Service, 5000 Ellin Road, Mail Stop C-2-235, Lanham, Maryland 20706.

SUPPLEMENTARY INFORMATION: The notice of the matching program was last published on February 17, 2006, at 71 FR 8658. Members of the public desiring specific information concerning an ongoing matching activity may request a copy of the applicable computer matching agreement at the address provided above.

Purpose

The purpose of this program is to prevent or reduce fraud and abuse in certain federally assisted benefit programs while protecting the privacy interest of the subjects of the match. Information is disclosed by the Internal Revenue Service only for the purpose of, and to the extent necessary in, determining eligibility for, and/or the correct amount of, benefits for individuals applying for or receiving certain benefit payments.

Authority

In accordance with section 6103(l)(7) of the Internal Revenue Code (IRC), the Secretary shall, upon written request, disclose current return information from returns with respect to unearned income from the Internal Revenue Service files to any federal, state or local agency administering a program listed below:

1. A state program funded under part A of Title IV of the Social Security Act;

2. Medical assistance provided under a state plan approved under Title XIX of the Social Security Act;

3. Supplemental security income benefits under Title XVI of the Social Security Act, and federally administered supplementary payments of the type described in section 1616(a) of such Act (including payments pursuant to an agreement entered into under section 212(a) of Pub. L. 93-66);

4. Any benefits provided under a state plan approved under Title I, X, XIV, or XVI of the Social Security Act (as those titles apply to Puerto Rico, Guam, and the Virgin Islands);

5. Unemployment compensation provided under a state law described in section 3304 of the IRC:

6. Assistance provided under the Food Stamp Act of 1977;

7. State-administered supplementary payments of the type described in section 1616(a) of the Social Security Act (including payments pursuant to an agreement entered into under section 212(a) of Pub. L. 93-66);

(a) Any needs-based pension provided under Chapter 15 of Title 38, United States Code, or under any other law administered by the Secretary of Veterans Affairs;

(b) Parents' dependency and indemnity compensation provided under section 1315 of Title 38, United States Code;

(c) Health care services furnished under sections 1710(a)(2)(G) (formerly 1710(a)(1)(l)), 1710(a)(3) (formerly 1710(a)(2)), 1710(b) and 1712(a)(2)(B) of Title 38, United States Code.

Name of Recipient Agency: Internal Revenue Service.

Categories of records covered in the match: Internal Revenue Service Information Return Master File (Treasury/IRS System 22.061 (IRMF)) for the latest tax year. This file contains information returns (e.g., Forms 1099-DIV, 1099-INT and W-2G) filed by payors of income.

Name of source agencies and categories of records covered in the match:

A. Federal agencies expected to participate and their Privacy Act systems of records are:

1. Department of Veterans Affairs: Veterans Benefits Administration—Compensation, Pension and Education and Rehabilitation Records-VA, 58 VA 21/22; and Veterans Health Administration-Healthcare Eligibility Records, 89VA19;

2. Social Security Administration, Office of Systems Requirements—Supplemental Security Income record and Special Veterans Benefits, (60-0103)

B. State agencies expected to participate using non-federal systems of records are:

1. Alabama Department of Human Resources

2. Alabama Medicaid Agency

3. Alaska Department of Health & Social Services

4. Arizona Department of Economic Security

5. Arizona Health Care Cost Containment System

6. Arkansas Department of Human Services

7. California Department of Social Services

8. Colorado Department of Human Services S

9. Connecticut Department of Social Services

10. Delaware Department of Health & Social Services

11. D.C. Department of Human Services

12. Florida Department of Children & Families

13. Georgia Department of Human Resources

14. Guam Department of Public Health & Social Services

15. Hawaii Department of Human Services

16. Idaho Department of Health and Welfare

17. Illinois Department of Human Services

18. Indiana Family and Social Services Administration

19. Iowa Department of Human Services

20. Kansas Department of Social and Rehabilitation Services

21. Kentucky Cabinet for Health and Family Services

22. Louisiana Department of Health and Hospitals

23. Louisiana Department of Social Services

24. Maine Department of Health and Human Services

25. Maryland Department of Human Services

26. Massachusetts Department of Transitional Assistance

27. Massachusetts Division of Medical Assistance

28. Michigan Department of Human Services

29. Minnesota Department of Human Services

30. Mississippi Department of Human Services

31. Mississippi Division of Medicaid

32. Missouri Department of Social Services

33. Montana Department of Public Health and Human Services

34. Nebraska Department of Health and Human Services

35. Nevada Department of Human Services

36. New Hampshire Department of Health and Human Services

37. New Jersey Department of Human Services

38. New Mexico Human Services Department

39. New York Office of Temporary and Disability Assistance

40. North Carolina Department of Health and Human Services

41. North Dakota Department of Human Services

42. Ohio Department of Job and Family Services

43. Oklahoma Department of Human Services

44. Oregon Department of Human Resources

45. Pennsylvania Department of Public Welfare

46. Puerto Rico Department of Health

47. Puerto Rico Department of the Family

48. Rhode Island Department of Human Services

49. South Carolina Department of Social Services

50. South Dakota Department of Social Services

51. Tennessee Department of Human Services

52. Texas Health and Human Services Commission

53. Utah Department of Health

54. Utah Department of Workforce Services

55. Vermont Department of Children and Families

56. Virgin Islands Bureau of Health Insurance and Medical Assistance

57. Virgin Islands Department of Human Services

58. Virginia Department of Health and Human Services

59. Washington Department of Social and Health Services

60. West Virginia Department of Human Services

61. Wisconsin Department of Health and Family Services

62. Wisconsin Department of Workforce Development

63. Wyoming Department of Family Services

Beginning and completion dates: The matches are conducted on an ongoing basis in accordance with the terms of the computer matching agreement in effect with each participant as approved by the applicable Data Integrity Board(s). The term of these agreements is expected to cover the 18-month period from July 1, 2008 through December 31, 2009. Ninety days prior to expiration of the agreement, the parties to the agreement may request a 12-month extension in accordance with 5 U.S.C. 552a(o).

Dated: August 6, 2008.
Elizabeth Cuffe,
Deputy Assistant Secretary for Privacy and Treasury Records.

[FR Doc. E8-18818 Filed 8-14-08; 8:45 am]

BILLING CODE 4830-01-P